DEPARTMENT OF THE INTERIOR

National Park Service

Continuation of Visitor Services

AGENCY: National Park Service, Interior.

ACTION: Public notice.

SUMMARY: Pursuant to the terms of existing concession contracts, public notice is hereby given that the National Park Service intends to request a continuation of visitor services for a period not-to-exceed 1 year from the date of contract expiration.

SUPPLEMENTARY INFORMATION: The contracts listed below have been extended to maximum allowable under 36 CFR 51.23. Under the provisions of current concession contracts and pending the completion of the public solicitation of a prospectus for a new concession contract, the National Park Service authorizes continuation of visitor services for a period not-to-exceed 1 year under the terms and conditions of the current contract as amended. The continuation of operations does not affect any rights with respect to selection for award of a new concession contract.

CONCID# | Concessioner name | Park
AMIS002 | Forever Resorts, LLC | Amistad National Recreation Area.
AMIS003 | Rough Canyon Marina | Amistad National Recreation Area.
BAND001 | Bandelier Trading, Inc | Bandelier NM.
BRCA002 | Bryce-Zion Trail Rides | Bryce Canyon NP.
CAVE001 | Cavern Supply Company, Inc | Carlsbad Caverns NP.
CURE001 | Elk Creek Marina | Curecanti National Recreation Area.
GLAC001 | Glacier Park Boat Company, Inc | Glacier National Park.
GLAC003 | Mule Shoe Outfitters, LLC | Glacier National Park.
GLAC006 | Glacier Wilderness Guides | Glacier National Park.
GLAC010 | Edward DesRosier (Sun Tours) | Glacier National Park.
GLCA001 | Wilderness River Adventures | Glen Canyon National Recreation Area.
GLCA021 | Banner Health, Page Hospital | Glen Canyon National Recreation Area.
GRCA004 | Jerman-Mangum Enterprises, Inc | Grand Canyon NP.
GRCA005 | Verkamps, Inc | Grand Canyon National Park.
GRTE003 | Signal Mountain | Grand Canyon National Park.
LAMR002 | Forever Resorts, LLC | Lake Meredith National Recreation Area.
MEVE001 | ARAMARK | Mesa Verde National Park.
PAIS001 | Forever Resorts, LLC | Padre Island National Seashore.
PEFO001 | Xanterra Parks and Resorts | Petrified Forest National Park.
ROMO001 | Forever Resorts, LLC | Rocky Mountain National Park.
TICA001 | Carl and Betsy Wagner | Timpanogos Cave National Monument.
WHSA001 | White Sands Company, Inc | White Sands National Monument.
YELL077 | Xanterra Parks and Resorts, Inc | Yellowstone National Park.

DATES: Effective Date: January 2, 2005.

FOR FURTHER INFORMATION CONTACT: Jo. A. Pendry, Concession Program Manager, National Park Service, Washington, DC 20240, Telephone, 202/513-7156.

Dated: December 17, 2004.
Alfred J. Poole, III,
Acting Associate Director, Administration, Business Practices and Workforce Development.

[FR Doc. 05-3329 Filed 2-18-05; 8:45 am]

BILLING CODE 4312-53-M